DEPARTMENT OF AGRICULTURE

Forest Service

Notice of Proposed New Fee Site: Federal Lands Recreation Enhancement Act

AGENCY: Humboldt-Toiyabe National Forest, Forest Service, USDA.

ACTION: Notice of proposed fee increase.

SUMMARY: The Humboldt-Toiyabe National Forest, Bridgeport Ranger District is proposing to increase the fee for Christmas tree permits from $5.00 to $10.00 per tag (ie. an individual Christmas tree). This is a proposed fee, and a final determination will be based upon further analysis of the proposal and public comment. Funds from fees would be used for the continued operation, visitor services, maps, and law enforcement while issuing and enforcing Christmas Tree permits.

DATES: Comments will be accepted through May 30, 2015. Increased fees would likely begin in November 2015.

ADDRESSES: Jamie Fields, Recreation and Wilderness Program Manager, Humboldt-Toiyabe National Forest, 1200 Franklin Way, Sparks Nevada 89431.

FOR FURTHER INFORMATION CONTACT: Jamie Fields, Recreation Fee Coordinator, 775-352-1254. Information about proposed fee changes can also be found on the Humboldt-Toiyabe National Forest Web site: http://www.fs.usda.gov/htnf.

SUPPLEMENTARY INFORMATION: The Federal Recreation Lands Enhancement Act (Title VII, Pub. L. 108-447) directed the Secretary of Agriculture to publish a six month advance notice in the Federal Register whenever new recreation fee areas are established.

Once public involvement is complete, the fee increases will be reviewed by a Recreation Resource Advisory Committee prior to a final decision and implementation.

Dated: March 3, 2015.
Bill Dunkelberger,
Forest Supervisor.

[FR Doc. 2015-05618 Filed 3-11-15; 8:45 am]

BILLING CODE 3410-11-P